DEPARTMENT OF JUSTICE

Antitrust Division

Notice Pursuant to the National Cooperative Research and Production Act of 1993—International Electronics Manufacturing Initiative, Inc.

Notice is hereby given that, on April 26, 2017, pursuant to Section 6(a) of the National Cooperative Research and Production Act of 1993, 15 U.S.C. 4301 et seq. (“the Act”), International Electronics Manufacturing Initiative, Inc. (“iNEMI”) has filed written notifications simultaneously with the Attorney General and the Federal Trade Commission disclosing changes in its membership. The notifications were filed for the purpose of extending the Act's provisions limiting the recovery of antitrust plaintiffs to actual damages under specified circumstances. Specifically, 5N Plus Micro Powders Inc., Montréal, Quebec, CANADA; U.S. Department of Defense, Fort Meade, MD; Elmatica AS, Oslo, NORWAY; Integrated Micro-Electronics, Inc., Binan, PHILIPPINES; General Electric, San Jose, CA; Oak Ridge National Laboratory, Oak Ridge, TN; Tin Products Manufacturing Co., LTD, Kunming, PEOPLE'S REPUBLIC OF CHINA; Vitrox Technologies SDN BHD, Bayan Lepas, MALAYSIA; METech Recycling, Creedmoor, NC; Peagatroin, Taipei, TAIWAN; Shenmao Technology, Inc., Taoyuan, TAIWAN; SAKI Corporation, Tokyo, JAPAN; SENKO Advanced Components, Basingstoke, UNITED KINGDOM; and Abbott Corporation, Abbott Park, IL, have been added as parties to this venture.

Also, Commissariat à l'énergie atomique et aux énergies alternatives, Grenoble, FRANCE; EPEAT, Inc., Portland, OR; Underwriters Laboratories, Northbrook, IL; IMEC vzw, Leuven, BELGIUM; Micro Systems Technology Mgmt. AG, Baar, SWITZERLAND; TE Connectivity, Schaffhausen, SWITZERLAND; and St. Jude Medical, Saint Paul, MN, have withdrawn as parties to this venture.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on May 4, 2016. A notice was published in the Federal Register pursuant to Section 6(b) of the Act on June 9, 2016 (81 FR 37213).

Patricia A. Brink,
Director of Civil Enforcement, Antitrust Division.

[FR Doc. 2017-10342 Filed 5-19-17; 8:45 am]

BILLING CODE P